DEPARTMENT OF THE INTERIOR

Bureau of Indian Affairs

[245A2100DD/AAKC001030/A0A501010.999900]

Indian Gaming; Approval of Tribal-State Class III Gaming Compact Amendment Between the Suquamish Indian Tribe of the Port Madison Reservation and the State of Washington

AGENCY: Bureau of Indian Affairs, Interior.

ACTION: Notice.

SUMMARY: This notice publishes the approval of the Seventh Amendment to the Tribal-State Compact for Class III Gaming between the Suquamish Indian Tribe of the Port Madison Reservation and the State of Washington, titled Memorandum of Incorporation of Most Favored Nation Amendments to the Tribal State Compact for Class III Gaming between the Suquamish Tribe and the State of Washington.

DATES: The Amendment takes effect on April 23, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The Amendment authorizes the Tribe to offer Sports Pools in accordance with State Law and specific procedures outlined in the Amendment.

The Amendment is approved.

Bryan Newland,
Assistant Secretary—Indian Affairs.

[FR Doc. 2024-08661 Filed 4-22-24; 8:45 am]

BILLING CODE 4337-15-P